DEPARTMENT OF THE INTERIOR

National Park Service, Northeast Region

Notice of Intent To Prepare an Environmental Impact Statement and Hold Public Meetings

AGENCY: National Park Service, Interior.

ACTION: Notice of intent.

SUMMARY: In accordance with the National Environmental Policy Act of 1969 (Pub. L. 91-190, Section 102(2)(c)), the National Park Service is preparing an Environmental Impact Statement (EIS) for the special resource study of the Coltsville historic industrial district in Hartford, CT, as authorized by Pub. L. 108-94.

Coltsville is a 260-acre industrial area where inventor Samuel Colt and his company manufactured firearms from 1855 until the 1990s. It was recognized as the Colt Industrial National Register District in 1976. Within this historic district is inventor Samuel Colt's house Armsmear, which was designated as a National Historic Landmark in 1966. The purpose of the EIS/study is to determine if Coltsville has the national significance, suitability, and feasibility for designation as a unit of the national park system. If the study also finds that federal management of the site is appropriate, Congress could designate Coltsville a unit of the national park system. The study will identify alternative management options to preserve and interpret the historic site. The alternatives will describe the site boundaries; current land ownership and land use; potential impacts on cultural and natural resources; possible management entities; participation of State and local governments and private and public organizations; estimated project costs; anticipated levels of visitation; and economic and social benefits.

The Draft EIS/study is expected to be completed and available for public review in the winter of 2006. After public and interagency review of the draft document, comments will be considered and a final EIS/study report, followed by a Record of Decision, will be prepared.

DATES: The NPS will hold a public scoping meeting in October 2004 that will provide opportunities to ask questions, make suggestions, and raise issues concerning the Coltsville special resource study. Information on the time and place of the public scoping meeting will be publicized through the local news media in Hartford, CT.

ADDRESSES: Those persons who wish to comment orally or in writing, or who require further information are invited to contact James O'Connell, Project Manager, at the National Park Service, Northeast Region Boston Office, 15 State Street, Boston, MA 02109-3572, (617) 223-5222; fax -5164; or via e-mail at Jim_O'Connell@nps.gov.

Dated: July 23, 2004.
Robert W. McIntosh,
Associate Regional Director, Planning and Partnerships, Northeast Region.

[FR Doc. 04-20020 Filed 9-1-04; 8:45 am]

BILLING CODE 4312-52-M